DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of March 8, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Delaware County, Iowa and Incorporated Areas
Docket No.: FEMA-B-1911 and FEMA-B-2068
City of Colesburg | City Hall, 304 Main Street, Colesburg, IA 52035.
City of Delaware | City Hall, 110 Washington Street, Delaware, IA 52036.
City of Delhi | City Hall, 311 Franklin Street, Delhi, IA 52223.
City of Dundee | Fire Station/Community Room, 117 North Center Street, Dundee, IA 52038.
City of Earlville | City Office, 19 Northern Avenue, Earlville, IA 52041.
City of Greeley | City Hall/Fire Station, 214 East 2nd Street, Greeley, IA 52050.
City of Hopkinton | City Hall, 115 1st Street Southeast, Hopkinton, IA 52237.
City of Manchester | City Hall, 208 East Main Street, Manchester, IA 52057.
City of Masonville | City Hall, 606 Gordon Street, Masonville, IA 50654.
City of Ryan | City Hall, 405 Franklin Street, Ryan, IA 52330.
Unincorporated Areas of Delaware County | Delaware County Engineering Office, 2139 Highway 38, Manchester, IA 52057.
Anderson County, Kansas and Incorporated Areas
Docket No.: FEMA-B-2061
City of Colony | City Hall, 339 Cherry Street, Colony, KS 66015.
City of Garnett | City Hall, 131 West 5th Avenue, Garnett, KS 66032.
City of Greeley | City Hall, 112 West Brown Avenue , Greeley, KS 66033.
City of Kincaid | City Hall, 500 5th Avenue, Kincaid, KS 66039.
City of Lone Elm | Lone Elm City Hall, 303 2nd Street, Kincaid, KS 66039.
City of Westphalia | Anderson County Courthouse, 100 East 4th Avenue, Garnett, KS 66032.
Unincorporated Areas of Anderson County | Anderson County Courthouse, 100 East 4th Avenue, Garnett, KS 66032.
Franklin County, Kansas and Incorporated Areas
Docket No.: FEMA-B-2068
City of Lane | City Hall, 600 3rd Street, Lane, KS 66042.
City of Ottawa | City Hall, 101 South Hickory Street, Ottawa, KS 66067.
City of Pomona | City Hall, 219 Jefferson Street, Pomona, KS 66076.
City of Princeton | City Hall, 316 Galveston Street, Princeton, KS 66078.
City of Rantoul | City Hall, 120 East Main Street, Rantoul, KS 66079.
City of Wellsville | City Hall, 411 Main Street, Wellsville, KS 66092.
City of Williamsburg | City Hall, 123 West William Street, Williamsburg, KS 66095.
Unincorporated Areas of Franklin County | Franklin County Courthouse, 315 South Main Street, Ottawa, KS 66067.
Greene County, Ohio and Incorporated Areas
Docket No.: FEMA-B-2031
City of Beavercreek | Government Center, 1368 Research Park Drive, Beavercreek, OH 45432.
City of Bellbrook | Administrative Offices, 15 East Franklin Street, Bellbrook, OH 45305.
City of Centerville | Municipal Government Center, 100 West Spring Valley Road, Centerville, OH 45458.
City of Fairborn | Government Center, 44 West Hebble Avenue, Fairborn, OH 45324.
City of Kettering | Government Center, 3600 Shroyer Road, Kettering, OH 45429.
City of Xenia | City Administration Building, 107 East Main Street, Xenia, OH 45385.
Unincorporated Areas of Greene County | 667 Dayton-Xenia Road, Xenia, OH 45385.
Village of Cedarville | 152 West Cedar Street, Cedarville, OH 45314.
Village of Clifton | 143 Clinton Street, Clifton, OH 45316.
Village of Jamestown | Municipal Building, 84 Seaman Drive, Jamestown, OH 45335.
Village of Spring Valley | 7 West Main Street, Spring Valley, OH 45370.
Village of Yellow Springs | 100 Dayton Street, Yellow Springs, OH 45387.

[FR Doc. 2021-27608 Filed 12-20-21; 8:45 am]

BILLING CODE 9110-23-P